DEPARTMENT OF EDUCATION

Application for New Awards; Indian Education Formula Grants to Local Educational Agencies

AGENCY: Office of Elementary and Secondary Education, Department of Education.

ACTION: Notice.

Overview Information

Indian Education Formula Grants to Local Educational Agencies.

Notice inviting applications for fiscal year (FY) 2012.

Catalog of Federal Domestic Assistance (CFDA) Number: 84.060A.

Dates:

Part I of the Formula Grant Electronic Application System for Indian Education (EASIE) Applications Available: January 9, 2012.

Deadline for Transmittal of Part I Applications: February 10, 2012, 11:59:59 p.m., Washington, DC time.

Part II of the Formula Grant EASIE Applications Available: April 2, 2012.

Deadline for Transmittal of Part II Applications: May 4, 2012, 11:59:59 p.m., Washington, DC time.

Note: Applicants must meet the deadlines for both Part I and Part II to receive funds as part of the initial grant awards, which we expect to issue around July 1, 2012. If there are funds remaining after the initial grant awards are made, the Department will give priority to applicants that filed a timely application for Part I, but missed the deadline for Part II. Applicants that missed the Part I deadline will only be funded if there are funds remaining after awards are made to all applicants that met the Part I deadline (including those applicants that met the Part I deadline, but missed the Part II deadline).

Deadline for Intergovernmental Review: July 3, 2012.

I. Funding Opportunity Description

Purpose of Program: The Indian Education Formula Grants to Local Educational Agencies program provides grants to support local educational agencies (LEAs) and other eligible entities described in this notice in their efforts to reform and improve elementary and secondary school programs that serve Indian students. The Department funds comprehensive programs that address the language and cultural needs of Indian students, including professional development for teachers of Indian students, and that are designed to help Indian students meet the same State academic content and student academic achievement standards used for all students.

In addition, under section 7116 of the Elementary and Secondary Education Act of 1965, as amended (ESEA), the Secretary will, upon receipt of an acceptable plan for the integration of education and related services, and in cooperation with other relevant Federal agencies, authorize the entity receiving the funds under this program to consolidate all Federal formula funds that are to be used exclusively for Indian students. Instructions for submitting an integration of education and related services plan are included in the EASIE, which is described elsewhere in this notice under Application Process and Submission Information.

Note: Under the Indian Education Formula Grants to Local Educational Agencies program, applicants are required to develop the project for which an application is made (a) in open consultation with parents of Indian children and teachers and, if appropriate, Indian students from secondary schools, including through public hearings held to provide a full opportunity to understand the program and to offer recommendations regarding the program (section 7114(c)(3)(C) of the ESEA); (b) with the participation of a parent committee selected in accordance with section 7114(c)(4) of the ESEA and with the written approval of that parent committee (section 7114(c)(4) of the ESEA).

Program Authority: 20 U.S.C. 7421 et seq.

Applicable Regulations: (a) The Education Department General Administrative Regulations (EDGAR) in 34 CFR parts 75, 77, 79, 80, 81, 82, 84, 85, 97, 98, and 99.

Note: The regulations in 34 CFR part 79 apply to all applicants except federally recognized Indian tribes.

II. Award Information

Type of Award: Indian Education Formula Grants to Local Educational Agencies.

Estimated Available Funds: The Administration has requested $104,331,000 for this program for FY 2012. The actual level of funding, if any, depends on final Congressional action. However, we are inviting applications to allow enough time to complete the grant process if Congress appropriates funds for this program.

Estimated Range of Awards: $4,000-$2,738,000.

Estimated Average Size of Awards: $82,000.

Estimated Number of Awards: 1,276.

Note: The Department is not bound by any estimates in this notice.

Project Period: 12 months.

III. Eligibility Information

1. Eligible Applicants: Certain LEAs, including charter schools authorized as LEAs under State law, as prescribed by section 7112(b) of the ESEA, certain schools funded by the Bureau of Indian Education of the U.S. Department of the Interior, as prescribed by section 7113(d) of the ESEA, and Indian tribes under certain conditions, as prescribed by section 7112(c) of the ESEA.

2.a. Cost Sharing or Matching: This program does not require cost sharing or matching.

b. Supplement-Not-Supplant: This program involves supplement-not-supplant funding requirements. Section 7114(c)(1) of ESEA states that the local educational agency will use these grant funds only to supplement the funds that, in the absence of these Federal funds, such agency would make available for the education of Indian children, and not to supplant such funds.

IV. Application Process and Submission Information

1. How to Request an Application: Applications for grants under this program must be submitted electronically using the Formula Grant EASIE. For information (including dates and times) about how to submit your application electronically, or in paper format by mail or hand delivery if you qualify for an exception to the electronic submission requirements, please refer to section IV.7. Other Submission Requirements of this notice.

Individuals with disabilities can obtain a copy of the application package in an accessible format (e.g., braille, large print, audiotape, or computer diskette) by contacting the person or team listed under For Further Information Contact in section VI of this notice.

2. Content and Form of Application Submission: Requirements concerning the content of an application, together with the forms you must submit, are in the online application package for this program. The online application requires the submission of data related to the Performance Measures, which are listed in this notice in section V. Grant Administration Information.

The application submission under this program is entirely electronic except for the submission of an Indian Parent Committee Approval form. After the Formula Grant EASIE Part II application is certified, the applicant must submit a signed Indian Parent Committee Approval form within three business days of certification. The form is available through the Formula Grant EASIE. This requirement applies only to applications from LEAs and does not apply to applications from Bureau of Indian Education schools or Indian tribes.

3. Submission Dates and Times: Part I of the Formula Grant Electronic Application System for Indian Education (EASIE) Applications Available: January 9, 2012.

Deadline for Transmittal of Part I Applications: February 10, 2012, 11:59:59 p.m., Washington, DC time.

Part II of the Formula Grant EASIE Applications Available: April 2, 2012.

Deadline for Transmittal of Part II Applications: May 4, 2012, 11:59:59 p.m., Washington, DC time.

Applications for grants under this program must be submitted electronically using the Formula Grant EASIE. For information (including dates and times) about how to submit your application electronically, or in paper format by mail or hand delivery if you qualify for an exception to the electronic submission requirements, please refer to section IV.7. Other Submission Requirements of this notice.

For initial grant awards, we do not consider an application that does not comply with the deadline requirements of Part I of EASIE.

Individuals with disabilities who need an accommodation process should contact the person listed under For Further Information Contact in section VI of this notice. If the Department provides an accommodation or auxiliary aid to an individual with a disability in connection with the application process, the individual's application remains subject to all other requirements and limitations in this notice.

Deadline for Intergovernmental Review: July 3, 2012.

4. Intergovernmental Review: This program is subject to Executive Order 12372 and the regulations on 34 CFR part 79. Information about Intergovernmental Review of Federal Programs under Executive Order 12372 is in the application package for this program.

5. Funding Restrictions: We reference additional regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this program must be submitted electronically unless you qualify for an exception to this requirement in accordance with the instructions in this section.

a. Electronic Submission of Applications.

Applications for grants under the Indian Education Formula Grants to Local Educational Agencies—84.060A must be submitted electronically using the Formula Grant EASIE.

We will reject your application if you submit it in paper format unless you qualify for one of the exceptions to the electronic submission requirement described later in this section under Exception to Electronic Submission Requirement, and follow the submission rules outlined therein.

Formula Grant EASIE Electronic Application System: Formula Grant EASIE is an easy-to-use, electronic application system. It imports data from State submissions to EDFacts, the Department's data collection system that contains performance information from State educational agencies about schools and Federal education programs. To the extent that your State has provided the necessary EDFacts data files, Formula Grant EASIE will be able to interface with EDFacts and pull those LEA-specific data into the application. Additionally, this system allows the Department to review applications and interact online with applicants during the application review and approval process.

The Formula Grant EASIE application is divided into two parts—Part I and Part II.

Part I, Student Count, provides the appropriate data-entry screens to submit your Indian student count totals.

Part II, Program and Budget Information, provides your award amount based on the Indian student count total submitted under Part I. Part II also enables you to enter student performance data, identify your project's services and activities, and build a realistic program budget based on an estimated grant amount. Based on student assessment data, you will select your program objectives and services from a variety of menu options that were designed with grantee input.

Registration for Formula Grant EASIE: Entities are encouraged to register as soon as possible at the registration Web site: www.easie.org to ensure that any potential registration issues are resolved prior to the deadline for the submission of an application. The purpose of the initial registration is to re-activate entities' access to EASIE and to ensure that the correct entity information (e.g., NCES or DUNS numbers) is pre-populated into the first part of Formula Grant EASIE. The registration Web site does not serve as the entity's grant application. The registration must be completed by current, former, and new applicants interested in submitting an Indian Formula Grant EASIE application. For information on how to register, contact the EDFacts Partner Support Center listed elsewhere in this notice under For Further Information Contact.

Exception to Electronic Submission Requirement: You qualify for an exception to the electronic submission requirement, and may submit your application in paper format, if you are unable to submit an application through the EASIE system because—

• You do not have access to the Internet; or

• You do not have the capacity to upload large documents to the EASIE system;

and

• No later than two weeks before the application deadline date for Part I (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Bernard Garcia, U.S. Department of Education, Office of Indian Education, 400 Maryland Avenue SW., Room 3E307, Washington, DC 20202-6335. Fax: (202) 205-0606.

Your paper application must be submitted in accordance with the mail or hand delivery instructions described in this notice.

b. Submission of Paper Applications by Mail.

If you qualify for an exception to the electronic submission requirement, you may mail (through the U.S. Postal Service or a commercial carrier) your application to the U.S Department of Education, Office of Indian Education. You must mail the original and two copies of your application, on or before the application deadline dates for both Part I and Part II, to the Office of Indian Education at the following address: U.S. Department of Education, Office of Indian Education, Attention: CFDA Number 84.060A, 400 Maryland Avenue SW., Room 3E307, Washington, DC 20202-6335.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

For initial grant awards, if your application is postmarked after the application deadline date for Part I, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline dates for both Part I and Part II, to the Department at the following address: U.S. Department of Education, Office of Indian Education, Attention: CFDA Number 84.060A, 400 Maryland Avenue SW., Room 3E307, Washington, DC 20202-6335.

The Program Office accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424, the CFDA number, including suffix letter, if any, of the competition under which you are submitting your application; and

(2) The Program Office will mail to you a notification of receipt of your grant application. If you do not receive this notification within 15 business days from the application deadline date, you should call the U.S. Department of Education Office of Indian Education at (202) 260-3774.

V. Grant Administration Information

1. Administrative and National Policy Requirements: We identify administrative and national policy requirements in the application package and reference these and other requirements in the Applicable Regulations section of this notice. We reference the regulations outlining the terms and conditions of a grant in the Applicable Regulations section of this notice.

2. Performance Measures: The Secretary has established the following key performance measures for assessing the effectiveness and efficiency of the Indian Education Formula Grants to Local Educational Agencies program: (1) The percentage of American Indian and Alaska Native students in grades four and eight who score at or above the basic level in reading on the National Assessment of Educational Progress (NAEP); (2) the percentage of American Indian and Alaska Native students in grades four and eight who score at or above the basic level in mathematics on the NAEP; (3) the percentage of American Indian and Alaska Native students in grades three through eight meeting State performance standards by scoring at the proficient or the advanced levels in reading and mathematics on State assessments; (4) the difference between the percentage of American Indian and Alaska Native students in grades 3 through 8 at the proficient or advanced levels in reading and mathematics on State assessments and the percentage of all students scoring at those levels; (5) the percentage of American Indian and Alaska Native students who graduate from high school; and (6) the percentage of funds used by grantees prior to award close-out.

VI. Agency Contacts

For Further Information Contact: For questions about the Formula Grant Program, contact Bernard Garcia, U.S. Department of Education, 400 Maryland Avenue SW., Room 3E307, Washington, DC 20202-6335. Telephone: (202) 260-1454 or by email: Bernard.Garcia@ed.gov. For questions about the EASIE application, contact the EDFacts Partner Support Center, telephone: (877) 457-3336 (877) HLP-EDEN or by email at: eden_OIE@ed.gov.

If you use a telecommunications device for the deaf (TDD), call the EDFacts Partner Support Center, toll free, at 1-(888) 403-3336 (888) 403-EDEN.

Individuals with disabilities can obtain this document and a copy of the application package in an accessible format (e.g., braille, large print, audiotape, or computer diskette) by contacting the EDFacts Partner Support Center. Electronic Access to This Document: The official version of this document is the document published in the Federal Register. Free Internet access to the official edition of the Federal Register and the Code of Federal Regulations is available via the Federal Digital System at: www.gpo.gov/fdsys. At this site you can view this document, as well as other documents of this Department published in the Federal Register in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: December 20, 2011.
Michael Yudin,
Acting Assistant Secretary for Elementary and Secondary Education.

[FR Doc. 2011-33004 Filed 12-22-11; 8:45 am]

BILLING CODE 4000-01-P